DEPARTMENT OF THE INTERIOR

National Park Service

60-Day Notice of Intention To Request Clearance of Collection of Information: Opportunity for Public Comment

AGENCY: Department of the Interior, National Park Service.

ACTION: Notice and request for comments.

SUMMARY: The National Park Service (NPS) Office of International Affairs (OIA) proposes to collect information from property owners who volunteer for their properties to be included in a list of sites (Tentative List) that will be considered for nomination by the United States to the World Heritage List.

In order to manage the U.S. World Heritage Program (37 CFR 73) effectively and in a timely manner NPS must prepare and submit through the Secretary of the Interior and the Secretary of State to the World Heritage Centre by February 1, 2007, a Tentative List of properties that appear to meet the criteria for nomination to the World Heritage List and which the United States intends to nominate during the ensuing decade (2007-2017).

Only sites that have been found to be of national significance and that have such legal protections as are necessary to ensure the preservation of the properties and their environment may be considered for nomination by the United States. By law, all property owners must also concur in any World Heritage nomination.

In order to gather the required information for the preparation of the Tentative List, it is proposed that an expanded and annotated version of the “World Heritage Nomination Format” (or form, hereinafter referred to as the “Application”) be made available to owners who wish to apply for inclusion in the U.S. Tentative List. It would be made available on the Internet at http://www.nps.gov/oia and http://www.georgewright.org.

Under the provisions of the Paperwork Reduction Act of 1995 and 5 CFR part 1320, Reporting and Recordkeeping Requirements, the NPS invites comments on the need for and proposed manner of gathering the information in the study. Comments are invited on: (1) The practical utility of the information being gathered; (2) the accuracy of the burden hour estimate; (3) ways to enhance the quality, utility, and clarity of the information to be collected; and (4) ways to minimize the burden of information collection to respondents, including the use of automated information collection techniques or other forms of information technology.

DATES: Public comments will be accepted on or before sixty days from the date of publication in the Federal Register.

Send Comments to: Send comments and requests for copies of a draft of the proposed Application and the accompanying Guidebook to the U.S. World Heritage Program to James H. Charleton, Office of International Affairs, National Park Service, 1201 I Street NW. (0050). E-mail: james_ charleton@contractor.nps.gov. Phone: (202) 354-1802. Fax (202) 371-1446.

FOR FURTHER INFORMATION CONTACT: James H. Charleton, (202) 354-1802 or April Brooks, (202) 354-1808.

SUPPLEMENTARY INFORMATION: Title: Instructions for Preparing U.S. World Heritage Nominations.

Form: Format for the Nomination of Properties for Inscription on the World Heritage List.

OMB Number: To be requested.

Expiration Date: To be requested.

Type of Request: Request for new clearance.

Description of Need: The primary purpose of the proposed Collection of Information is to gather the information necessary to evaluate the potential of properties for nomination by the United States to the World Heritage List and to use the information for preparing a Tentative List of candidate sites. The World Heritage List is an international list of cultural and natural properties nominated by the signatories of the World Heritage Convention (1972). The following year, the United States was the first nation to ratify the treaty. U.S. participation and the roles of the Department of the Interior and the National Park Service are authorized by Title IV of the Historic Preservation Act Amendments of 1980 and conducted in accord with 36 CFR 73—World Heritage Convention.

A Tentative List is a national list of natural and cultural properties appearing to meet the eligibility criteria for nomination to the World Heritage List. It is an annotated list of candidate sites which a country intends to nominate within a given time period.

The World Heritage Committee has issued Operational Guidelines asking participating nations to provide Tentative Lists, which aid in evaluating properties for the World Heritage List on a comparative international basis and help the Committee to schedule its work over the long term. The Guidelines recommend that a nation review its Tentative List at least once every decade. The current U.S. Tentative List (formerly Indicative Inventory) dates to 1982.

The U.S. Tentative List will serve as a guide for at least the next decade (2007-2017) of U.S. nominations to the World Heritage List. The Tentative List will be structured so as to meet the World Heritage Committee's December 2004 request that the Tentative List allow for the nomination of no more than two sites per year by any one nation, at least one of which must be a natural site (excluding potential emergency nominations not at present foreseen).

The National Park Service Office of International Affairs (NPS-OIA) and the George Wright Society (GWS) are working cooperatively to prepare a new U.S. Tentative List. After various reviews and approvals, NPS-OIA will forward a recommended list to the Secretary of the Interior for consideration and then to the U.S. Department of State for submittal to the World Heritage Committee.

The proposed Application that is the subject of this Notice will document properties that are owner-nominated for inclusion in the Tentative List and for subsequent nomination by the United States to the World Heritage List. The information proposed to be collected will be used to determine whether the properties meet the criteria established for inclusion. The documentation also will be used to assist in preserving and protecting the properties and for heritage education and interpretation.

Automated data collection: The proposal is to have the Application available from the Internet and for it to be submitted electronically by e-mail to the cooperator in the Office of International Affairs who is preparing the draft Tentative List. Those without access to electronic means will be able to obtain copies of the Application via a telephone, fax, or mail request and return them by mail.

Description of respondents: Individual private property owners, groups of private and/or public property owners and Federal land managers. Participation would be strictly voluntary and only respondent owners who submit, or who authorize to be submitted on their behalf, a completed Application would have their sites considered for inclusion in the U.S. Tentative List.

Estimated Annual Reporting Burden: 3200 hours. The expected range is 2000-6000 total hours, depending on the balance between less complex sites and more complex ones. If 50 individual Applications are received, of which 35 are of single buildings and 15 are of more complex sites, the total burden hours would be 3200.

Estimated Average Burden Hours per Response: 64.

Depending on the complexity of the site for which an Application for inclusion in the Tentative List is being prepared, the average burden hours per response would vary considerably because of many complex factors. In general, to fulfill minimum proposed program requirements describing the property and demonstrating its eligibility under the World Heritage criteria, the average burden hours likely would range from 40 hours for a single building Application to upward of 120 hours for a more complex group of buildings or a natural area Application, such as a major national or state park unit or wildlife refuge. The proposed Application is structured electronically so as to be used without continuation sheets, with space being inserted between sections as needed. The calculations of average burden hours provided here rest upon review of sample nominations of average length.

Estimated Average Number of Respondents: 50.

Frequency of Response: 1 time per respondent.

Doris Lowery,
Acting National Park Service Information and Collection Clearance Officer.

[FR Doc. 05-20912 Filed 10-18-05; 8:45 am]

BILLING CODE 4312-52-P